DEPARTMENT OF COMMERCE

International Trade Administration

[A-570-947]

Certain Steel Grating from the People's Republic of China: Antidumping Duty Order

AGENCY: Import Administration, International Trade Administration, Department of Commerce.

SUMMARY: Based on the affirmative final determination by the Department of Commerce (the “Department”) and the International Trade Commission (“ITC”), the Department is issuing an antidumping duty order on certain steel grating (“steel grating”) from the People's Republic of China (“PRC”).

EFFECTIVE DATE: July 23, 2010.

FOR FURTHER INFORMATION CONTACT: Thomas Martin, AD/CVD Operations, Office 4, Import Administration, International Trade Administration, U.S. Department of Commerce, 14th Street and Constitution Avenue, NW, Washington, DC, 20230; telephone: (202) 482-3936.

SUPPLEMENTARY INFORMATION:

Background

In accordance with sections 735(d) and 777(i)(1) of the Tariff Act of 1930, as amended (“Act”), the Department published its affirmative final determination of sales at less than fair value (“LTFV”) in the antidumping investigation of steel grating from the PRC. See Certain Steel Grating From the People's Republic of China: Final Determination of Sales at Less Than Fair Value, 75 FR 32366 (June 8, 2010) (“Final Determination”). On July 13, 2010, the ITC notified the Department of its affirmative determination of material injury to a U.S. industry. See Certain Steel Grating from China, Investigation Nos. 701-TA-465 and 731-TA-1161 (Final), USITC Publication 4168 (July 2010). Pursuant to section 736(a) of the Act, the Department is issuing the antidumping duty order on steel grating from the PRC.

Scope of the Order

The products covered by this order are certain steel grating, consisting of two or more pieces of steel, including load-bearing pieces and cross pieces, joined by any assembly process, regardless of: (1) size or shape; (2) method of manufacture; (3) metallurgy (carbon, alloy, or stainless); (4) the profile of the bars; and (5) whether or not they are galvanized, painted, coated, clad or plated. Steel grating is also commonly referred to as “bar grating,” although the components may consist of steel other than bars, such as hot-rolled sheet, plate, or wire rod.

The scope of this order excludes expanded metal grating, which is comprised of a single piece or coil of sheet or thin plate steel that has been slit and expanded, and does not involve welding or joining of multiple pieces of steel. The scope of this order also excludes plank type safety grating which is comprised of a single piece or coil of sheet or thin plate steel, typically in thickness of 10 to 18 gauge, that has been pierced and cold formed, and does not involve welding or joining of multiple pieces of steel.

Certain steel grating that is the subject of this order is currently classifiable in the Harmonized Tariff Schedule of the United States (“HTSUS”) under subheading 7308.90.7000. While the HTSUS subheading is provided for convenience and customs purposes, the written description of the scope of this order is dispositive.

Provisional Measures

Section 733(d) of the Act states that suspension of liquidation ordered pursuant to an affirmative preliminary determination may not remain in effect for more than four months except where exporters representing a significant proportion of exports of the subject merchandise request the Department to extend that four-month period to no more than six months. At the request of an exporter that accounted for a significant proportion of exports of steel grating, we extended the four-month period to no more than six months. See Certain Steel Grating from the People's Republic of China: Postponement of Final Determination, 75 FR 5766 (February 4, 2010). In this investigation, the six-month period beginning on the date of the publication of the Preliminary Determination¹ (i.e., January 6, 2010) ended on July 5, 2010.

¹ See Certain Steel Grating From the People's Republic of China: Preliminary Determination of Sales at Less Than Fair Value and Postponement of Final Determination, 75 FR 847 (January 6, 2010) (“Preliminary Determination”),

Section 737 of the Act states that definitive duties are to begin on the date of publication of the ITC's final injury determination. Therefore, in accordance with section 733(d) of the Act, we have instructed U.S. Customs and Border Protection (“CBP”) to terminate suspension of liquidation and to liquidate without regard to antidumping duties (i.e., release all bonds and refund all cash deposits), unliquidated entries of steel grating from the PRC entered, or withdrawn from warehouse, for consumption after July 5, 2010, and before the date of publication of the ITC's final injury determination in the Federal Register. Suspension of liquidation will resume on or after the date of publication of the ITC's final injury determination in the Federal Register.

Continuation of Suspension of Liquidation

In accordance with section 735(c)(1)(B) of the Act, we will instruct CBP to suspend liquidation on all entries of subject merchandise from the PRC. We will also instruct CBP to require cash deposits equal to the estimated amount by which the normal value exceeds the U.S. price as indicated in the chart below. These instructions suspending liquidation will remain in effect until further notice.

Antidumping Duty Order

On July 13, 2010, in accordance with section 735(d) of the Act, the ITC notified the Department of its final determination, pursuant to section 735(b)(1)(A)(i) of the Act, that an industry in the United States is materially injured by reason of LTFV imports of subject merchandise from the PRC. Therefore, in accordance with section 736(a)(1) of the Act, the Department will direct CBP to assess, upon further instruction by the Department, antidumping duties equal to the amount by which the normal value of the merchandise exceeds the export price (or constructed export price) of the merchandise for all relevant entries of steel grating from the PRC. These antidumping duties will be assessed on unliquidated entries of steel grating from the PRC entered, or withdrawn from the warehouse, for consumption on or after January 6, 2010 , the date on which the Department published its Preliminary Determination.

Effective on the date of publication of the ITC's final affirmative injury determination, CBP will require, at the same time as importers would normally deposit estimated duties on this merchandise, a cash deposit equal to the estimated weighted-average antidumping duty margins as listed below See section 735(c)(3) of the Act. The “PRC-wide” rate applies to all exporters of subject merchandise not specifically listed below. The weighted-average dumping margins are as follows:

Manufacturer | Exporter | Antidumping Duty Percent Margin
Sinosteel Yantai Steel Grating Co., Ltd. | Sinosteel Yantai Steel Grating Co., Ltd. | 136.76
Ningbo Haitian International Co., Ltd. | Ningbo Lihong Steel Grating Co., Ltd. | 136.76
Yantai Xinke Steel Structure Co., Ltd. | Yantai Xinke Steel Structure Co., Ltd. | 136.76
PRC-wide Entity |  | 145.18

This notice constitutes the antidumping duty order with respect to steel grating from the PRC pursuant to section 736(a) of the Act. Interested parties may contact the Department's Central Records Unit, Room 1117 of the main Commerce building, for copies of an updated list of antidumping duty orders currently in effect.

This order is published in accordance with section 736(a) of the Act and 19 CFR

351.211.

Dated: July 16, 2010.
Ronald K. Lorentzen,
Deputy Assistant Secretary for Import Administration.

[FR Doc. 2010-18105 Filed 7-22-10; 8:45 am]

BILLING CODE 3510-DS-S